DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps (NHSC).

Date and Time: August 4, 2010, 9 a.m.-4 p.m.

Place: Renaissance Washington, DC Downtown Hotel, 999 Ninth Street, NW., Washington, DC 20001, Phone: 202-898-9000.

Status: The meeting will be open to the public.

Agenda: The Council will be convening in Washington, DC to hear updates on the NHSC program and to review and discuss the NHSC's vision, mission and values statements.

FOR FURTHER INFORMATION CONTACT: Njeri Jones, Bureau of Clinician Recruitment and Service, Health Resources and Services Administration, Parklawn Building, Room 8A-46, 5600 Fishers Lane, Rockville, MD 20857; e-mail: NJones@hrsa.gov; telephone: 301-443-2541.

Dated: June 21, 2010.
Sahira Rafiullah,
Director, Division of Policy Information and Coordination.

[FR Doc. 2010-15420 Filed 6-24-10; 8:45 am]

BILLING CODE 4165-15-P